ENVIRONMENTAL PROTECTION AGENCY

[FRL-7603-2]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held January 14-15, 2004 at the Hotel Washington, Washington, DC. The CHPAC was created to advise the Environmental Protection Agency on science, regulations, and other issues relating to children's environmental health.

DATES: Wednesday, January 14 and the afternoon of Thursday, January 15, plenary sessions will take place; the Science and Regulatory Work Groups will meet the morning of Thursday, January 15.

ADDRESSES: Hotel Washington, 515 15th Street, NW., Washington, DC.

FOR FURTHER INFORMATION CONTACT: Contact Joanne Rodman, Office of Children's Health Protection, USEPA, MC 1107A, 1200 Pennsylvania Avenue, NW., Washington, DC 20460, (202) 564-2188, rodman.joanne@epa.gov.

SUPPLEMENTARY INFORMATION: The meetings of the CHPAC are open to the public. The plenary CHPAC will meet on Wednesday, January 14 from 9 a.m. to 5 p.m., with a public comment period at 4:30 p.m., and on Thursday, January 15 from 12 p.m. to 5 p.m. The Science and Regulatory Work Groups will meet Thursday, January 15 from 9 a.m. to 12 p.m.

The plenary session will open with introductions and a review of the agenda and objectives for the meeting. Agenda items include highlights of the Office of Children's Health Protection (OCHP) activities and orientation for new CHPAC members. Other potential agenda items include a presentation on the Mercury MACT and the Mercury Action Plan, and a panel presentation on Smart Growth.

Dated: December 10, 2003.
Joanne K. Rodman,
Designated Federal Official.

Agenda

Wednesday, January 14, 2004

9—Welcome, Introductions, Review Meeting Agenda

9:30—Highlights of Recent OCHP Activities

10—General Discussion: Orientation to the CHPAC

10:45—Break

11—Report from the Transition Committee: Recommended Strategic Priorities for CHPAC

12—Lunch (on your own)

1:15—Presentation: EPA's Response to the CHPAC's Smart Growth Recommendations

2:15—Panel: Background Briefing on Mercury MACT

3:30—Break

3:45—Discussion of Possible CHPAC Comments on Mercury

5—Public Comment

5:30—Adjourn

Thursday, January 15, 2004

9—Work Group Meetings

12 Lunch

1:15—Science Policy Work Group Report

2—Regulatory Policy Work Group Report

4—Wrap Up/Next Steps

4:30—Adjourn Plenary

[FR Doc. 03-32213 Filed 12-30-03; 8:45 am]

BILLING CODE 6560-50-P